DEPARTMENT OF TRANSPORTATION

Federal Aviation Administration

14 CFR Part 39

[Docket No. FAA-2023-1719; Project Identifier 2008-NM-202-AD]

RIN 2120-AA64

Airworthiness Directives; Dassault Aviation Airplanes

AGENCY: Federal Aviation Administration (FAA), DOT.

ACTION: Notice of proposed rulemaking (NPRM).

SUMMARY: The FAA proposes to remove Airworthiness Directive (AD) 2010-26-05, which applies to certain Dassault Aviation Model Falcon 10 airplanes; Model FAN JET FALCON, FAN JET FALCON SERIES C, D, E, F, and G airplanes; Model MYSTERE-FALCON 20-C5, 20-D5, 20-E5, and 20-F5 airplanes; and all Model MYSTERE-FALCON 200 airplanes; Model FALCON 2000 and FALCON 2000EX airplanes; Model MYSTERE-FALCON 50 and MYSTERE-FALCON 900 airplanes; and Model FALCON 900EX airplanes. AD 2010-26-05 requires repetitive inspections for overpressure tightness on the pressurization control regulating valves and, if necessary, replacing the affected valve with a serviceable unit. AD 2010-26-05 is no longer necessary because the FAA has since issued ADs 2021-04-20, 2020-02-13, 2020-03-24, 2020-03-19, 2020-01-13, 2023-05-15, 2023-04-10, 2023-02-13, 2023-04-18, and 2023-04-13 to address the unsafe condition. Accordingly, the FAA proposes to remove AD 2010-26-05.

DATES: The FAA must receive comments on this proposed AD by October 13, 2023.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2023-1719; or in person at Docket Operations between 9 a.m. and 5 p.m., Monday through Friday, except Federal holidays. The AD docket contains this NPRM, the mandatory continuing airworthiness information (MCAI), any comments received, and other information. The street address for Docket Operations is listed above.

FOR FURTHER INFORMATION CONTACT: Tom Rodriguez, Aviation Safety Engineer, FAA, 1600 Stewart Avenue, Suite 410, Westbury, NY 11590; telephone: 206-231-3226; email: tom.rodriguez@faa.gov.

SUPPLEMENTARY INFORMATION:

Comments Invited

The FAA invites you to send any written relevant data, views, or arguments about this proposal. Send your comments to an address listed under ADDRESSES. Include “Docket No. FAA-2023-1719; Project Identifier 2008-NM-202-AD” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this proposed AD.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Tom Rodriguez, Aviation Safety Engineer, FAA, 1600 Stewart Avenue, Suite 410, Westbury, NY 11590; telephone: 206-231-3226; email: tom.rodriguez@faa.gov. Any commentary that the FAA receives that is not specifically designated as CBI will be placed in the public docket for this rulemaking.

Background

The FAA issued AD 2010-26-05, Amendment 39-16544 (75 FR 79952, December 21, 2010) (AD 2010-26-05), for certain Dassault Aviation Model Falcon 10 airplanes; Model FAN JET FALCON, FAN JET FALCON SERIES C, D, E, F, and G airplanes; Model MYSTERE-FALCON 20-C5, 20-D5, 20-E5, and 20-F5 airplanes; and all Model FALCON 2000 and FALCON 2000EX airplanes; Model MYSTERE-FALCON 200 airplanes; Model MYSTERE-FALCON 50 and MYSTERE-FALCON 900 airplanes, and Model FALCON 900EX airplanes. AD 2010-26-05 was prompted by an MCAI originated by the European Union Aviation Safety Agency (EASA), which is the Technical Agent for the Member States of the European Union. EASA issued AD 2008-0072, dated April 18, 2008 (EASA AD 2008-0072) (also referred to as the MCAI), to identify and correct an unsafe condition.

AD 2010-26-05 requires repetitive inspections for overpressure tightness on the pressurization control regulating valves and, if necessary, replacing the affected valve with a serviceable unit. The FAA issued AD 2010-26-05 to address failure of the pressurization control regulating valve (overpressure capsule), which will affect the aircraft's overpressure protection. Overpressurization can result in injury to the occupants and possible structural failure leading to loss of control of the airplane.

Actions Since AD 2010-26-05 Was Issued

Since the FAA issued AD 2010-26-05, the actions specified in the MCAI have been included in the airworthiness limitations section of the existing maintenance manual. EASA issued EASA AD 2008-0072-CN, dated October 5, 2020, which cancels EASA AD 2008-0072. The FAA issued the following ADs to address the unsafe condition by revising the existing maintenance or inspection program, as applicable, to incorporate new or more restrictive maintenance requirements and airworthiness limitations, including the actions specified in AD 2010-26-05:

• AD 2021-04-20, Amendment 39-21442 (86 FR 12802, March 5, 2021), which addresses the unsafe condition for Model Falcon 10 airplanes.

• AD 2020-02-13, Amendment 39-19827 (85 FR 6744, February 6, 2020), which addresses the unsafe condition for Model FAN JET FALCON, FAN JET FALCON SERIES C, D, E, F, and G airplanes on which the supplemental structural inspection program (SSIP) has been incorporated into the airplane's maintenance program.

• AD 2020-03-24, Amendment 39-19848 (85 FR 11289, February 27, 2020), which addresses the unsafe condition for Model MYSTERE-FALCON 20-C5, 20-D5, 20-E5, and 20-F5 airplanes on which the SSIP (Dassault Service Bulletin 730) has been embodied into the airplane's existing maintenance or inspection program.

•AD 2020-03-19, Amendment 39-19843 (85 FR 11280, February 27, 2020), which address the unsafe condition for Model MYSTERE-FALCON 20-C5, 20-D5, 20-E5, and 20-F5 airplanes, except those on which the SSIP (Dassault Service Bulletin 730) has been embodied into the airplane's existing maintenance or inspection program.

• AD 2020-01-13, Amendment 39-19819 (85 FR 5313, January 30, 2020), which addresses the unsafe condition for Model MYSTERE-FALCON 200 airplanes.

• AD 2023-05-15, Amendment 39-22384 (88 FR 22374, April 13, 2023), which addresses the unsafe condition for Model MYSTERE-FALCON 50 airplanes.

• AD 2023-04-10, Amendment 39-22357 (88 FR 20743, April 7, 2023), which addresses the unsafe condition for Model MYSTERE-FALCON 900 airplanes.

• AD 2023-02-13, Amendment 39-22320 (88 FR 8740, February 10, 2023), which addresses the unsafe condition for Model FALCON 900EX airplanes.

• AD 2023-04-18, Amendment 39-22365 (88 FR 15607, March 14, 2023), which addresses the unsafe condition for Model FALCON 2000 airplanes.

• AD 2023-04-13, Amendment 39-22360 (88 FR 20741, April 7, 2023), which addresses the unsafe condition for Model FALCON 2000EX airplanes.

FAA's Conclusions

Upon further consideration, the FAA has determined that AD 2010-26-05 is no longer necessary. Accordingly, this proposed AD would remove AD 2010-26-05. Removal of AD 2010-26-05 would not preclude the FAA from issuing another related action or commit the FAA to any course of action in the future. This proposed AD would remove all actions of AD 2010-26-05. Therefore, this proposed AD would terminate all requirements of AD 2010-26-05.

Related Costs of Compliance

This proposed AD would add no cost. This proposed AD would remove AD 2010-26-05 from 14 CFR part 39; therefore, operators would no longer be required to show compliance with that AD.

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701, General requirements. Under that section, Congress charges the FAA with promoting safe flight of civil aircraft in air commerce by prescribing regulations for practices, methods, and procedures the Administrator finds necessary for safety in air commerce. This regulation is within the scope of that authority.

Regulatory Findings

The FAA has determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive (AD) 2010-26-05, Amendment 39-16544 (75 FR 79952, December 21, 2010), and

b. Adding the following new AD:

Dassault Aviation: Docket No. FAA-2023-1719; Project Identifier 2008-NM-202-AD.

(a) Comments Due Date

The FAA must receive comments on this airworthiness directive (AD) by October 13, 2023.

(b) Affected AD

This AD replaces AD 2010-26-05, Amendment 39-16544 (75 FR 79952, December 21, 2010) (AD 2010-26-05).

(c) Applicability

This AD applies to the airplanes identified in paragraphs (c)(1) and (2) of this AD, certificated in any category.

(1) Dassault Aviation Model Falcon 10 airplanes; Model FAN JET FALCON, FAN JET FALCON SERIES C, D, E, F, and G airplanes; and Model MYSTERE-FALCON 20-C5, 20-D5, 20-E5, and 20-F5 airplanes; all serial numbers, equipped with Liebherr or ABG-Semca pressurization outflow valves.

(2) Dassault Aviation Model MYSTERE-FALCON 200 airplanes, Model MYSTERE-FALCON 50 and MYSTERE-FALCON 900 airplanes, and FALCON 900EX airplanes; and Model FALCON 2000 and FALCON 2000EX airplanes; all serial numbers.

(d) Subject

Air Transport Association (ATA) of America Code 21, Air conditioning.

(e) Terminating Action

This AD terminates all requirements of AD 2010-26-05.

(f) Related Information

For more information about this AD, contact Tom Rodriguez, Aviation Safety Engineer, FAA, 1600 Stewart Avenue, Suite 410, Westbury, NY 11590; telephone: 206-231-3226; email: tom.rodriguez@faa.gov.

(g) Material Incorporated by Reference

None.

Issued on August 22, 2023.
Victor Wicklund,
Deputy Director, Compliance & Airworthiness Division, Aircraft Certification Service.

[FR Doc. 2023-18519 Filed 8-28-23; 8:45 am]

BILLING CODE 4910-13-P